OFFICE OF THE UNITED STATES TRADE REPRESENTATIVE

Notice of Meeting of the President's Advisory Committee on Trade Policy and Negotiations (ACTPN)

AGENCY: Office of the United States Trade Representative.

ACTION: Notice that the October 31, 2001, meeting of the President's Advisory Committee on Trade Policy and Negotiations will be held from 1:30 p.m. to 4 p.m. The meeting will be closed to the public from 1:30 p.m. to 3:30 p.m. and open to the public from 3:30 p.m. to 4 p.m.

SUMMARY: The President's Advisory Committee on Trade Policy and Negotiations will hold a meeting on October 31, 2001, from 1:30 p.m. to 4 p.m. The meeting will be opened to the public from 3:30 p.m. to 4 p.m. The meeting will include a review and discussion of current issues which influence U.S. trade policy. Pursuant to section 2155(f)(2) of Title 19 of the United States Code, I have determined that this meeting will be concerned with matters the disclosure of which would seriously compromise the development by the United States Government of trade policy, priorities, negotiating objectives or bargaining positions with respect to the operation of any trade agreement and other matters arising in connection with the development, implementation and administration of the trade policy of the United States. The meeting will be open to the public and press from 3:30 p.m. to 4 p.m., when trade policy issues will be discussed. Attendance during this part of the meeting is for observation only. Individuals who are not members of the committee will not be invited to comment.

DATES: The meeting is scheduled for October 31, 2001, unless otehrwise notified.

ADDRESSES: The meeting will be held at the USTR ANNEX Building in Conference Room 1 and 2, located at 1724 F Street, NW., Washington, DC unless otherwise notified.

FOR FURTHER INFORMATION CONTACT: Elizabeth A. Gianini, Office of the United States Trade Representative, (202) 395-6120.

Robert B. Zoellick,
United States Trade Representative.

[FR Doc. 01-24333 Filed 9-27-01; 8:45 am]

BILLING CODE 3190-01-M